Title 3—

The President

Memorandum of May 6, 2022

Delegation of Authority Under Section 506(a)(1) and Section 614(a)(1) of the Foreign Assistance Act of 1961

Memorandum for the Secretary of State

By the authority vested in me as President by the Constitution and the laws of the United States of America, including section 621 of the Foreign Assistance Act of 1961 (FAA), I hereby delegate to the Secretary of State the following authorities, subject to fulfilling the requirements of section 614(a)(3) and section 652 of the FAA, in order to provide assistance to Ukraine:

(1) the authority under section 614(a)(1) of the FAA to determine whether it is important to the security interests of the United States to furnish up to $150 million in assistance without regard to any provision of law within the purview of section 614(a)(1) of the FAA; and

(2) the authority under section 506(a)(1) of the FAA to direct the drawdown of up to $150 million in defense articles and services of the Department of Defense, and military education and training, to provide assistance to Ukraine and to make the determinations required under such section to direct such a drawdown.

You are authorized and directed to publish this memorandum in the Federal Register.

THE WHITE HOUSE,

Washington, May 6, 2022

[FR Doc. 2022-10576

Filed 5-13-22; 8:45 am]

Billing code 4710-10-P